DEPARTMENT OF DEFENSE

Department of the Army; Corps of Engineers

33 CFR Part 328

ENVIRONMENTAL PROTECTION AGENCY

40 CFR Parts 110, 112, 116, 117, 122, 230, 232, 300, and 401

[FRL-7456-4]

RIN 2040-AB74

Advance Notice of Proposed Rulemaking on the Clean Water Act Regulatory Definition of “Waters of the United States”

AGENCIES: U.S. Army Corps of Engineers, Department of the Army, DoD; and Environmental Protection Agency.

ACTION: Advance notice of proposed rulemaking; extension of comment period.

SUMMARY: On January 15, 2003, the Department of the Army (Army) and the Environmental Protection Agency (EPA) jointly published an Advance Notice of Proposed Rulemaking (ANPRM) on the Clean Water Act (CWA) regulatory definition of “Waters of the United States” (68 FR 1991). That ANPRM requests public input on issues associated with the definition of “waters of the United States” in light of the U.S. Supreme Court decision in Solid Waste Agency of Northern Cook County v. U.S. Army Corps of Engineers, 531 U.S. 159 (2001) (SWANCC). It also solicits information or data from the general public, the scientific community, and Federal and State resource agencies on the implications of the SWANCC decision for jurisdictional decisions under the CWA. The input received from the public in response to the ANPRM will be used by the agencies to determine the issues to be addressed and the substantive approach for a future proposed rulemaking addressing the scope of CWA jurisdiction.

The Army and EPA sought responses to the ANPRM by March 3, 2003. In response to comments from the public requesting additional time to fully analyze the issues, gather requested information, and prepare comments, we are extending the comment period on the ANPRM to April 16, 2003.

DATES: In order to be considered, comments or information in response to the ANPRM must be postmarked or e-mailed on or before April 16, 2003.

ADDRESSES: Comments may be submitted electronically, by mail, or through hand delivery/courier. Mail comments to: Water Docket, Environmental Protection Agency, Mailcode 4101T, 1200 Pennsylvania Ave., NW., Washington, DC 20460, Attention Docket ID No. OW-2002-0050.

FOR FURTHER INFORMATION CONTACT: For information on the ANPRM, contact either Donna Downing, U.S. Environmental Protection Agency, Office of Wetlands, Oceans and Watersheds (4502T), 1200 Pennsylvania Avenue NW., Washington, DC 20460, phone: (202) 566-1366, e-mail: CWAwaters@epa.gov, or Ted Rugiel, U.S. Army Corps of Engineers, ATTN CECW-OR, 441 G Street NW., Washington, DC 20314-1000, phone: (202) 761-4595, e-mail: Thaddeus.J.Rugiel@HQ02.USACE.ARMY.MIL.

SUPPLEMENTARY INFORMATION: To submit comments or access the official docket, please follow the detailed instructions as provided in section I.B. of the SUPPLEMENTARY INFORMATION section of the January 15, 2003, Federal Register document (68 FR 1991). If you have questions, consult one of the persons listed under FOR FURTHER INFORMATION CONTACT.

Dated: February 21, 2003.
G. Tracy Mehan, III,
Assistant Administrator, Office of Water, Environmental Protection Agency.

Dated: February 24, 2003.
George S. Dunlop,
Deputy Assistant Secretary of the Army (Policy and Legislation), Department of the Army.

[FR Doc. 03-4768 Filed 2-27-03; 8:45 am]

BILLING CODE 6560-50-P